ENVIRONMENTAL PROTECTION AGENCY

[FRL OP-OFA-195]

Environmental Impact Statements; Notice of Availability

Responsible Agency: Office of Federal Activities, General Information 202-993-3272 or https://www.epa.gov/nepa.

Weekly receipt of Environmental Impact Statements (EIS)

Filed August 29, 2025 10 a.m. EST Through September 8, 2025 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250129, Final Supplement, NRC, IL, Generic Environmental Impact Statement for License Renewal of Nuclear Plants Supplement 17, Second Renewal Regarding Subsequent License Renewal for Dresden Nuclear Power Station, Units 2 and 3, Review Period Ends: 10/14/2025, Contact: Angela Sabet 301-415-1162.

EIS No. 20250130, Draft, NMFS, AK, Bering Sea Chum Salmon Bycatch Management Draft Environmental Impact Statement and Regulatory Impact Review, Comment Period Ends: 01/05/2026, Contact: Doug Shaftel 907-586-7228.

EIS No. 20250131, Final, BLM, AL, Warrior Met Coal Mines, Contact: Shayne Banks 601-919-4652.

Dated: September 8, 2025.
Nancy Abrams,
Associate Director, Office of Federal Activities.

[FR Doc. 2025-17649 Filed 9-11-25; 8:45 am]

BILLING CODE 6560-50-P